DEPARTMENT OF TRANSPORTATION

Federal Railroad Administration

Notice of Availability of a Final Environmental Impact Statement for the DesertXpress High-Speed Passenger Train Project

AGENCY: Federal Railroad Administration (FRA), United States Department of Transportation (DOT).

ACTION: Notice.

SUMMARY: FRA is issuing this notice to advise the public that a Final Environmental Impact Statement (EIS) is being published for the DesertXpress High-Speed Passenger Train Project (DesertXpress project). FRA is the Lead Agency for the environmental review process and has prepared the Final EIS consistent with the provisions of Section 102(2)(c) of the National Environmental Policy Act (NEPA) of 1969 (42 U.S.C. 4321 et seq.), the Counsel of Environmental Quality (CEQ) regulations implementing NEPA (40 CFR parts 1500 et seq.), and FRA's Procedures for Considering Environmental Impacts (64 FR 28545, May 26, 1999). The Bureau of Land Management (BLM), Surface Transportation Board (STB), Federal Highway Administration (FHWA), and the National Park Service (NPS) coordinated with the FRA as Cooperating Agencies for the DesertXpress project environmental review process.

DesertXpress Enterprises Inc., the DesertXpress project proponent or Applicant, proposes to construct and operate a fully grade-separated, dedicated double-track, passenger-only railroad along an approximately 200-mile corridor, from Victorville, California, to Las Vegas, Nevada. The Preferred Alternative rail alignment would generally be immediately adjacent to the Interstate 15 (I-15) freeway travel lanes within the existing Interstate 15 (I-15) right-of-way (ROW). The Preferred Alternative also includes passenger station and maintenance facility sites in Victorville and greater Las Vegas.

DATES: Written comments on the Final EIS for the DesertXpress project will be accepted until April 18, 2011. Written comments on the Final EIS may be sent to: Ms. Wendy Messenger, Attn: DesertXpress EIS, Office of Railroad Policy and Development, Federal Railroad Administration, U.S. Department of Transportation, 1200 New Jersey Avenue, SE., MS-20, Washington, DC 20590 or via e-mail at Wendy.Messenger@dot.gov.

FOR FURTHER INFORMATION CONTACT: Ms. Wendy Messenger, Environmental Protection Specialist, Office of Railroad Policy and Development, Federal Railroad Administration, U.S. Department of Transportation, 1200 New Jersey Avenue, SE., MS-20, Washington, DC 20590 or via e-mail at Wendy.Messenger@dot.gov (telephone 202-493-6396).

SUPPLEMENTARY INFORMATION: The DesertXpress project would involve the construction and operation of an interstate high-speed passenger train system between Victorville, California and Las Vegas, Nevada, along an approximately 200-mile corridor. The purpose of the DesertXpress project is to provide reliable and safe passenger rail transportation between southern California and Las Vegas using proven high-speed rail technology that results in a convenient alternative to automobile or air travel that also adds transportation capacity to the I-15 freeway corridor. The need for the DesertXpress project stems from several factors, including but not limited to high and increasing travel demand on I-15—the only major roadway linking southern California to Las Vegas having limited opportunities to increase capacity. Other factors include constraints on the expansion of air travel from southern California and an above-average automobile accident rate on the I-15 freeway.

In March 2009, FRA, in coordination with the Cooperating Agencies, published a Draft EIS and circulated the document for a 56-day public and agency review and comment period. The Draft EIS analyzed a No Action Alternative and various Action Alternatives for the construction and operation of the DesertXpress high-speed passenger train. The Action Alternatives included multiple options for rail alignments, passenger stations, maintenance facilities, and locomotive technologies. The Draft EIS was structured to allow the Lead and Cooperating Agencies to compose a Preferred Alternative from the various options. FRA convened three public hearings on the Draft EIS, held in Las Vegas, Barstow, and Victorville on April 28, April 29, and April 30, 2009, respectively.

Following publication of the Draft EIS, the Applicant proposed several modifications and additions to the Action Alternatives presented in the Draft EIS, based upon substantive comments received during public and agency review and to reduce or avoid significant potential environmental impacts. The project modifications and additions included a new Victorville passenger station site, a new rail alignment through central Barstow within the I-15 freeway corridor, a new rail alignment through the Clark Mountains, new sites for maintenance facilities in unincorporated Clark County, and minor shifts in the rail alignment to avoid or reduce potential environmental impacts or improve operating characteristics.

After evaluating the proposed project modifications and additions, FRA determined, pursuant to 40 CFR 1502.9, that it was necessary to prepare a Supplemental Draft EIS to analyze the potential environmental impacts of the project modifications and additions. The FRA and the Cooperating Agencies published the Supplemental Draft EIS in September 2010 and circulated the document for a 46-day public and agency review and comment period. FRA convened two public hearings on the Supplemental Draft EIS in the Las Vegas and Barstow areas on October 13 and October 14, 2010, respectively.

The FRA and the Cooperating Agencies considered the entire record and compared the potential environmental impacts of the action alternatives as well as the no action alternative to select the Preferred Alternative. The Preferred Alternative rail alignment would be almost entirely located within the existing I-15 corridor, with tracks running alongside freeway travel lanes. The Preferred Alternative also identifies station and maintenance facility sites and selects Electrical Multiple Unit (EMU) as the preferred locomotive technology.

In accordance with regulations implementing NEPA, the Final EIS evaluates the environmental effects associated with the Preferred Alternative compared to the other Action Alternatives and the No Action Alternative and identifies appropriate mitigation measure to minimize the potential environmental impacts. The Final EIS also includes amendments to the Draft EIS and Supplemental Draft EIS to both reflect updated information since publication of the previous documents and to address certain comments received during the respective public and agency comment periods (40 CFR 1502.9(b)).

Pursuant to 40 CFR 1506.10, the Final EIS will be circulated for a 30-day period commencing on the date the Environmental Protection Agency's notice of availability is published in the Federal Register. The Lead and Cooperating Agencies will each issue a Record of Decision on the proposed action, pursuant to 40 CFR 1505.2 and 1506.10. Each Record of Decision will explain each agency's decision on the proposed action and explain factors considered in reaching the decision and will describe appropriate mitigation measures to minimize potential environmental impacts.

Prior to issuing a Record of Decision on the proposed project, FRA and the Cooperating Agencies will consider written comments on this Final EIS provided such comments are received by May 2, 2011. Written comments on this Final EIS should be sent to the Federal Railroad Administration by mail addressed to: Attn: DesertXpress, Ms. Wendy Messenger, Federal Railroad Administration, 1200 New Jersey Avenue, SE., MS-20, Washington, DC 20590.

Copies of the Final EIS are available online at FRA's Web site: http://www.fra.dot.gov; they are also available for viewing at the following locations near the planned rail system:

• Victorville City Library, 15011 Circle Drive, Victorville, CA 92395

• Barstow Library, 304 East Buena Vista, Barstow, CA 92311

• Las Vegas Library, 833 Las Vegas Blvd. N., Las Vegas, NV 80101

• Clark County Library, 1401 E. Flamingo Road, Las Vegas, NV 89119

Issued in Washington, DC, on March 23, 2011.
Karen J. Rae,
Deputy Administrator.

[FR Doc. 2011-7665 Filed 3-31-11; 8:45 am]

BILLING CODE 4910-06-P